DEPARTMENT OF THE INTERIOR

National Park Service

National Register of Historic Places; Weekly Listing of Historic Properties

Pursuant to (36 CFR 60.13(b, c)) and (36 CFR 63.5), this notice, through publication of the information included herein, is to apprise the public as well as governmental agencies, associations and all other organizations and individuals interested in historic preservation, of the properties added to, or determined eligible for listing in, the National Register of Historic Places from November 30 to December 4, 2009.

For further information, please contact Edson Beall via: United States Postal Service mail, at the National Register of Historic Places, 2280, National Park Service, 1849 C St., NW., Washington, DC 20240; in person (by appointment), 1201 Eye St., NW., 8th floor, Washington, DC 20005; by fax, 202-371-2229; by phone, 202-354-2255; or by e-mail, Edson_Beall@nps.gov.

Dated: February 16, 2010.
J. Paul Loether,
Chief, National Register of Historic Places/National Historic Landmarks Program.

KEY: State, County, Property Name, Address/Boundary, City, Vicinity, Reference Number, Action, Date, Multiple Name

ARIZONA

Maricopa County

Roosevelt Addition Historic District, 600 block of W. 3rd St., Tempe, 09000959, LISTED, 12/02/09

Pima County

Gist Residence, 5626 E. Burns St., Tucson, 09000960, LISTED, 12/04/09

CONNECTICUT

New London County

St. James' Episcopal Church, 125 Huntington St., New London, 90001098, LISTED, 12/02/09

FLORIDA

Lee County

First Baptist Church of Boca Grande, 421 4th St. W., Boca Grande, 09000962, LISTED, 12/02/09

GEORGIA

Cherokee County

Ball Ground Historic District, Old Canton Rd. and GA 372, Ball Ground, 09001057, LISTED, 12/04/09

MARYLAND

Caroline County

Brick House Farm, 24870 E. Cherry Ln., Greensboro vicinity, 09000963, LISTED, 12/02/09

Leverton, Jacob and Hannah, House, 3531 Seaman Rd., Preston vicinity, 09000964, LISTED, 12/02/09

MASSACHUSETTS

Bristol County

Head of the River Historic District, 2-28 Main St., Acushnet; 2-28 Mill Rd., 2-13 Tarkiln Hill Rd., New Bedford, 09000965, LISTED, 12/02/09

MISSISSIPPI

Clay County

West Point Unified Historic District, Roughly bounded by the rear property lines of resources along E. Main St. to the N., McCord St. to the W., Forest St., West Point, 09000784, LISTED, 12/01/09

Sunflower County

Indianola Historic District, Roughly bounded by Percy St. on the N., Front to Adair on the W. to Roosevelt, Roosevelt E. to Front Extended and N., Indianola, 09000356, LISTED, 11/30/09

NEW JERSEY

Hunterdon County

Seargeantsville Historic District, Co. Rts. 523 & 604, Lambert Rd., Delaware Dr., Delaware Township, 09000972, LISTED, 12/02/09

Morris County

Chamberlain, George, House, 315 Dover-Milton Rd., Jefferson, 09000973, LISTED, 12/02/09

NEW YORK

Kings County

Kol Israel Synagogue, 603 St. John's Place, Brooklyn, 09000966, LISTED, 12/02/09

Shaari Zedek Synagogue, 767 Putnam Ave., Brooklyn, 09000968, LISTED, 12/04/09

Suffolk County

Sherwood-Jayne House, 55 Old Post Rd., East Setauket, 09000969, LISTED, 12/02/09

Sullivan County

Spring House, 54 River Rd., Barryville, 09000970, LISTED, 12/02/09

OKLAHOMA

Craig County

Attucks School, 346 S. 4th, Vinita, 09000974, LISTED, 12/03/09

Ellis County

Ingle Brothers Broomcorn Warehouse, 320 NW 1st St., Shattuck, 09000975, LISTED, 12/03/09

Greer County

Downtown Mangum Historic District, roughly bounded by E. Lincoln, S. Pennsylvania, N. Oklahoma and S. Oklahoma, Mangum, 09000976, LISTED, 12/03/09, (County Courthouses of Oklahoma TR)

Jefferson County

Irving Baptist Church, OK Rt. 1 Box 32, Ryan, 09000977, LISTED, 12/03/09

Payne County

Bassett House, The, 1100 E. 9th Pl., Cushing, 09000979, LISTED, 12/03/09

TEXAS

Collin County

Allen Water Station, N. of Exchange Pkwy on Cottonwood Creek, Allen, 09000980, LISTED, 12/03/09

Kendall County

Herff-Rozelle Farm, 33 Heroff Rd., Boerne, 09000983, LISTED, 12/03/09

Tarrant County

First National Bank Building, 711 Houston St., Fort Worth, 09000981, LISTED, 12/03/09

Petroleum Building, 210 W. 6th. St., Fort Worth, 09000982, LISTED, 12/03/09

S. Main St. Historic District, 104, 108, 126 & 200 blocks S. Main St., Fort Worth, 09000984, LISTED, 12/03/09

UTAH

Carbon County

42Cb1252, Address Restricted, Price, 09000988, LISTED, 11/30/09, (Nine Mile Canyon, Utah)

42Cb145, Address Restricted, Price, 09001019, LISTED, 11/30/09, (Nine Mile Canyon, Utah)

42Cb1758, Address Restricted, Price, 09000992, LISTED, 11/30/09, (Nine Mile Canyon, Utah)

42Cb2024, Address Restricted, Price, 09000989, LISTED, 11/30/09, (Nine Mile Canyon, Utah)

42Cb2043, Address Restricted, Price, 09001012, LISTED, 11/30/09, (Nine Mile Canyon, Utah)

42Cb2218, Address Restricted, Price, 09000990, LISTED, 11/30/09, (Nine Mile Canyon, Utah)

42Cb242, Address Restricted, Price, 09000991, LISTED, 11/30/09, (Nine Mile Canyon, Utah)

42Cb31, Address Restricted, Price, 09001021, LISTED, 11/30/09, (Nine Mile Canyon, Utah)

42Cb33, Address Restricted, Price, 09000994, LISTED, 11/30/09, (Nine Mile Canyon, Utah)

42Cb36, Address Restricted, Price, 09000999, LISTED, 11/30/09, (Nine Mile Canyon, Utah)

42Cb46, Address Restricted, Price, 09000998, LISTED, 11/30/09, (Nine Mile Canyon, Utah)

42Cb48, Address Restricted, Price, 09000997, LISTED, 11/30/09, (Nine Mile Canyon, Utah)

42Cb50, Address Restricted, Price, 09000993, LISTED, 11/30/09, (Nine Mile Canyon, Utah)

42Cb51, Address Restricted, Price, 09001000, LISTED, 11/30/09, (Nine Mile Canyon, Utah)

42Cb52, Address Restricted, Price, 09001020, LISTED, 11/30/09, (Nine Mile Canyon, Utah)

42Cb690, Address Restricted, Price, 09001002, LISTED, 11/30/09, (Nine Mile Canyon, Utah)

42Cb697, Address Restricted, Price, 09001003, LISTED, 11/30/09, (Nine Mile Canyon, Utah)

42Cb729, Address Restricted, Price, 09001005, LISTED, 11/30/09, (Nine Mile Canyon, Utah)

42Cb730, Address Restricted, Price, 09001011, LISTED, 11/30/09, (Nine Mile Canyon, Utah)

42Cb731, Address Restricted, Price, 09001004, LISTED, 11/30/09, (Nine Mile Canyon, Utah)

42Cb736, Address Restricted, Price, 09001008, LISTED, 11/30/09, (Nine Mile Canyon, Utah)

42Cb743, Address Restricted, Price, 09001007, LISTED, 11/30/09 (Nine Mile Canyon, Utah)

42Cb744, Address Restricted, Price, 09001018, LISTED, 11/30/09 (Nine Mile Canyon, Utah)

42Cb745, Address Restricted, Price, 09001017, LISTED, 11/30/09 (Nine Mile Canyon, Utah)

42Cb746, Address Restricted, Price, 09000996, LISTED, 11/30/09 (Nine Mile Canyon, Utah)

42Cb804, Address Restricted, Price, 09001006, LISTED, 11/30/09 (Nine Mile Canyon, Utah)

42Cb809, Address Restricted, Price, 09000995, LISTED, 11/30/09 (Nine Mile Canyon, Utah)

42Cb811, Address Restricted, Price, 09001010, LISTED, 11/30/09 (Nine Mile Canyon, Utah)

42Cb851, Address Restricted, Price, 09000986, LISTED, 11/30/09 (Nine Mile Canyon, Utah)

42Cb893, Address Restricted, Price, 09001009, LISTED, 11/30/09 (Nine Mile Canyon, Utah)

42Cb969, Address Restricted, Price, 09000985, LISTED, 11/30/09 (Nine Mile Canyon, Utah)

42Cb974, Address Restricted, Price, 09000987, LISTED, 11/30/09 (Nine Mile Canyon, Utah)

42Dc706, Address Restricted, Price, 09001016, LISTED, 11/30/09 (Nine Mile Canyon, Utah)

Cottonwood Village, Address Restricted, Price, 09001015, LISTED, 11/30/09 (Nine Mile Canyon, Utah)

Drop-Dead Ruin, Address Restricted, Price, 09001014, LISTED, 11/30/09 (Nine Mile Canyon, Utah)

First Canyon Site, Address Restricted, Price, 09001013, LISTED, 11/30/09 (Nine Mile Canyon, Utah)

42Dc306, Address Restricted, Price, 09001040, LISTED, 11/30/09 (Nine Mile Canyon, Utah)

42Dc638, Address Restricted, Price, 09001039, LISTED, 11/30/09 (Nine Mile Canyon, Utah)

42Dc682, Address Restricted, Price, 09001026, LISTED, 11/30/09 (Nine Mile Canyon, Utah)

42Dc683, Address Restricted, Price, 09001027, LISTED, 11/30/09 (Nine Mile Canyon, Utah)

42Dc684, Address Restricted, Price, 09001038, LISTED, 11/30/09 (Nine Mile Canyon, Utah)

42Dc685, Address Restricted, Price, 09001037, LISTED, 11/30/09 (Nine Mile Canyon, Utah)

42Dc686, Address Restricted, Price, 09001036, LISTED, 11/30/09 (Nine Mile Canyon, Utah)

42Dc687, Address Restricted, Price, 09001035, LISTED, 11/30/09 (Nine Mile Canyon, Utah)

42Dc688, Address Restricted, Price, 09001034, LISTED, 11/30/09 (Nine Mile Canyon, Utah)

42Dc696, Address Restricted, Price, 09001025, LISTED, 11/30/09 (Nine Mile Canyon, Utah)

42Dc700, Address Restricted, Price, 09001022, LISTED, 11/30/09 (Nine Mile Canyon, Utah)

42Dc702, Address Restricted, Price, 09001033, LISTED, 11/30/09 (Nine Mile Canyon, Utah)

42Dc703, Address Restricted, Price, 09001031, LISTED, 11/30/09 (Nine Mile Canyon, Utah)

42Dc704, Address Restricted, Price, 09001030, LISTED, 11/30/09 (Nine Mile Canyon, Utah)

42Dc705, Address Restricted, Price, 09001023, LISTED, 11/30/09 (Nine Mile Canyon, Utah)

42Dc708, Address Restricted, Price, 09001029, LISTED, 11/30/09 (Nine Mile Canyon, Utah)

42Dc709, Address Restricted, Price, 09001028, LISTED, 11/30/09 (Nine Mile Canyon, Utah)

42Dc710, Address Restricted, Price, 09001024, LISTED, 11/30/09 (Nine Mile Canyon, Utah)

42Dc712, Address Restricted, Price, 09001032, LISTED, 11/30/09 (Nine Mile Canyon, Utah)

Centennial House, Address Restricted, Price, 09001042, LISTED, 11/30/09 (Nine Mile Canyon, Utah)

Fool's Pinnacle, Address Restricted, Price, 09001041, LISTED, 11/30/09 (Nine Mile Canyon, Utah)

Karen's Cist, Address Restricted, Price, 09001043, LISTED, 11/30/09 (Nine Mile Canyon, Utah)

Maxies Pad, Address Restricted, Price, 09001044, LISTED, 11/30/09 (Nine Mile Canyon, Utah)

Nordell's Fort, Address Restricted, Price, 09001045, LISTED, 11/30/09 (Nine Mile Canyon, Utah)

Redman Village, Address Restricted, Price, 09001047, LISTED, 11/30/09 (Nine Mile Canyon, Utah)

Sunstone Village, Address Restricted, Price, 09001046, LISTED, 11/30/09 (Nine Mile Canyon, Utah)

Taylor's City, Address Restricted, Price, 09001048, LISTED, 11/30/09 (Nine Mile Canyon, Utah)

VIRGINIA

Charlotte County

Four Locust Farm, U.S. Rt. 15, Keysville vicinity, 09001053, LISTED, 12/03/09

Gloucester County

Walker, T.C., House, 1 Main St., Gloucester, 09001050, LISTED, 12/04/09

Rockbridge County

Willson House, 367 VA 673, Lexington vicinity, 09001049, LISTED, 12/03/09

[FR Doc. 2010-3553 Filed 2-22-10; 8:45 am]

BILLING CODE 4312-51-P